DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 11, 2007.

Interested persons are invited to submit written comments regarding the subject matter of the investigations to the Director, Division of Trade Adjustment Assistance, at the address shown below, not later than June 11, 2007.

The petitions filed in this case are available for inspection at the Office of the Director, Division of Trade Adjustment Assistance, Employment and Training Administration, U.S. Department of Labor, Room C-5311, 200 Constitution Avenue, NW., Washington, DC 20210.

Signed at Washington, DC, this 22nd day of May 2007.
Ralph DiBattista,
Director, Division of Trade Adjustment Assistance.

Appendix
[TAA petitions instituted between 5/14/07 and 5/18/07]
TA-W | Subject firm (petitioners) | Location | Date of institution | Date of petition
61502 | Digitron Packaging, Inc. (Wkrs) | Redford, MI | 05/14/07 | 05/11/07
61503 | Liz Palacios Designs (Wkrs) | San Francisco, CA | 05/14/07 | 05/11/07
61504 | Woodmarc Enterprises, LLC (Comp) | Winterset, IA | 05/14/07 | 05/10/07
61505 | Trinity/Allegheny Axle Co., Inc. (Wkrs) | Butler, PA | 05/14/07 | 05/14/07
61506 | Celestica (Wkrs) | Carrollton, TX | 05/14/07 | 05/10/07
61507 | CGI (at Cott Beverages) (Comp) | Wyomissing, PA | 05/14/07 | 05/01/07
61508 | Victor Products/ Div Dana Corp. (State) | Robinson, IL | 05/15/07 | 05/14/07
61509 | WestPoint Home, Inc. (Comp) | Opelika, AL | 05/15/07 | 05/14/07
61510 | Wehadkee Yarn Mills (Comp) | West Point, GA | 05/15/07 | 05/14/07
61511 | Alexander Technologies (Comp) | Mason City, IA | 05/15/07 | 05/15/07
61512 | Freudenberg (Comp) | Newport, TN | 05/16/07 | 05/15/07
61513 | WestPoint Home, Inc. (Comp) | Chipley, FL | 05/16/07 | 05/16/07
61514 | WestPoint Home, Inc. (Comp) | Marianna, FL | 05/16/07 | 05/16/07
61515 | Invitrogen Corporation (Wkrs) | San Francisco, CA | 05/16/07 | 05/14/07
61516 | Best Textiles International Ltd. (Wkrs) | West Point, MS | 05/16/07 | 05/15/07
61517 | KI USA (Wkrs) | Berea, KY | 05/16/07 | 05/02/07
61518 | Culligan (Wkrs) | Northbrook, IL | 05/16/07 | 04/27/07
61519 | Thermal Fisher Scientific (State) | Mountainside, NJ | 05/16/07 | 05/15/07
61520 | Fair-Rite Products Corporation (Comp) | Flat Rock, IL | 05/16/07 | 05/15/07
61521 | Durham Manufacturing Company (The) (State) | Durham, CT | 05/16/07 | 05/15/07
61522 | Unifi, Inc. (Comp) | Dillon, SC | 05/16/07 | 05/10/07
61523 | Central Brass Manufacturing Company (Wkrs) | Cleveland, OH | 05/16/07 | 04/27/07
61524 | World Kitchen, LLC (Comp) | Charleroi, PA | 05/16/07 | 05/15/07
61525 | Ametek (Comp) | Racine, WI | 05/16/07 | 05/01/07
61526 | Henkel Technologies (Comp) | Olean, NY | 05/17/07 | 05/16/07
61527 | Fleetwood Travel Trailers of Kentucky, Inc. (Comp) | Campbellsville, KY | 05/17/07 | 05/17/07
61528 | Laneventure Furniture (Comp) | Conover, NC | 05/17/07 | 05/16/07
61529 | Schott Lithotec USA Corp (Comp) | Poughkeepsie, NY | 05/17/07 | 05/16/07
61530 | Track Corp (Comp) | Spring Lake, MI | 05/17/07 | 05/16/07
61531 | James Jones Company (Wkrs) | El Monte, CA | 05/17/07 | 05/10/07
61532 | GHS Strings (Wkrs) | Battle Creek, MI | 05/17/07 | 05/16/07
61533 | Seaside Inc. (Wkrs) | Warren, ME | 05/17/07 | 05/10/07
61534 | Merkle-Korff Industries, Inc. (Comp) | Richland Center, WI | 05/17/07 | 05/16/07
61535 | The Paslin Company (Wkrs) | Warren, MI | 05/17/07 | 05/15/07
61536 | Tenneco, Inc.—Virginia Beach (Comp) | Virginia Beach, VA | 05/17/07 | 05/16/07
61537 | Aperture Grille Division, Sony Electronics Inc. (Comp) | Mt. Pleasant, PA | 05/18/07 | 05/17/07
61538 | Intermet Corporation (Comp) | Spring Grove, IL | 05/18/07 | 05/17/07
61539 | Interlake Material Handling, Inc. (Comp) | Lodi, CA | 05/18/07 | 05/17/07
61540 | Santens of America, Inc. (Comp) | Anderson, SC | 05/18/07 | 05/16/07
61541 | South Indiana Lumber Co., Inc. (Wkrs) | Liberty, KY | 05/18/07 | 05/16/07
61542 | Kenakore Solutions (Wkrs) | Perrysburg, OH | 05/18/07 | 05/04/07
61543 | KMC Holding LLC (Wkrs) | Van Wert, OH | 05/18/07 | 05/10/07

[FR Doc. E7-10303 Filed 5-29-07; 8:45 am]

BILLING CODE 4510-FN-P